GENERAL SERVICES ADMINISTRATION

[Notice-PBS-2022-05; Docket No. 2022-0002; Sequence No. 24]

Notice of Availability for the Final Environmental Assessment for the Calexico West Land Port of Entry Temporary Pedestrian Process Facility Calexico, California

AGENCY: Public Buildings Service (PBS), General Services Administration (GSA).

ACTION: Notice; public meeting.

SUMMARY: This notice announces the availability of the Final Environmental Assessment (EA) for the proposed construction of a temporary pedestrian processing facility adjacent to the Historic Customs House, and interior renovation of the Historic Customs House at 340 East 1st Street, Calexico, California. The Final EA describes the reason the Project is being proposed; the alternatives that were evaluated; the potential impacts of each of the alternatives on the existing environment; and the proposed avoidance, minimization, and/or mitigation measures related to those alternatives.

DATES: A virtual public meeting to solicit comments and provide information about the Final EA will be held on October 24th, 2022, at 4:30 p.m., Pacific Standard Time at: https://teams.microsoft.com/l/meetup-join/19%3ameeting_NTNiNmE2MDktNTk5OC00OGYxLWFmZjYtZjdlZGRhMTkxNWNh%40thread.v2/0?context=%7b%22Tid%22%3a%228aec2bf0-04af-4841-bcf6-bac6a58dd4ef%22%2c%22Oid%22%3a%221894920d-2cd7-4a1a-aa78-0ebeddc5bdf6%22%7d. The availability period for the Final EA ends on November 7th, 2022.

ADDRESSES: Further information, including an electronic copy of the Final EA may be found online on the following website: https://www.gsa.gov/about-us/regions/welcome-to-the-pacific-rim-region-9/land-ports-of-entry/calexico-west-land-port-of-entry.

Questions or comments concerning the Draft EA should be directed to Osmahn Kadri, EPA Program Manager, GSA, via email: osmahn.kadri@gsa.gov or Ms. Bianca Rivera, 355 South Euclid Avenue, Suite 107, Tucson, AZ 85719 via postal mail/commercial delivery.

FOR FURTHER INFORMATION CONTACT: Mr. Osmahn A. Kadri, NEPA Program Manager, GSA, Pacific Rim Region, at 415-522-3617 or email osmahn.kadri@gsa.gov. Please call this number if special assistance is needed to attend and participate in the public meeting.

SUPPLEMENTARY INFORMATION:

Background

The Project is located adjacent to the Historic Customs House at 340 East 1st Street, Calexico, California. The Project is proposed to provide a temporary pedestrian processing facility for use during the demolition of existing structures and construction of the new processing building while ensuring continued services to those utilizing the international crossing between the United States of American and Mexico. The temporary facility is anticipated to be constructed on Heffernan Road, south of East 1st Street, to the west of the Historic Customs House. The facility will require the acquisition of Heffernan Road, to the south of East 1st Street. The building will be approximately 8,804 square feet and include a fire lane to the west, pedestrian ramps leading to/from the building, and pedestrian pick-up and drop-off areas at the north side of the building. The interior building will include wait areas, administrative offices, property storage interview rooms, inspection areas, processing areas, and restrooms.

The EA considered one Action Alternative (the Proposed Action) and the No Action Alternative. The Action Alternative would consist of the construction of the temporary processing facility and associated infrastructure. The Project is proposed to provide a temporary pedestrian processing facility for use during the demolition of existing structures and construction of the new processing building while ensuring continued services to those utilizing the international crossing between the United States of American and Mexico. The temporary facility is anticipated to be constructed on Heffernan Road, south of East 1st Street, to the west of the Historic Customs House. Even though the facility is temporary, the project will require the permanent acquisition of Heffernan Road, to the south of East 1st Street, removing the parking/pick up area. The building will be approximately 8,804 square feet and include a fire lane to the west, pedestrian ramps leading to/from the building, and pedestrian pick-up and drop-off areas at the north side of the building. The interior building will include wait areas, administrative offices, property storage interview rooms, inspection areas, processing areas, and restrooms. Since the facility is temporary, there would be no change in personnel staffing at this port of entry. Construction is likely to impact parking and loading/unloading merchandise for the retail facility to the west of the proposed facility, as well as traffic flow along East 1st Street during construction.

Under the No Action Alternative the construction of the temporary facilities, construction of the ramp, and renovations within the existing Historic Customs House would not occur.

The Draft EA was made publicly available on August 19, 2022, for a 30-day period. The public review period closed on September 26, 2018. The Notice of Availability for the Draft EA was published in the Federal Register at 87 FR 51110 on August 19, 2022. A virtual public meeting took place on August 23, 2022. In preparing this Final EA, GSA considered public comments received regarding the Draft EA during the public review period.

After careful consideration of the environmental analysis and associated environmental effects of the Proposed Action Alternative and No Action Alternative, the purpose and need for the Project, and comments received on the Draft EA, GSA will be implementing the Proposed Action Alternative.

Finding: Pursuant to the provision of GSA Order ADM 1095.1F, the PBS NEPA Desk Guide, and the regulations issued by the Council on Environmental Quality (CEQ; 40 CFR parts 1500 to 1508), this notice advises the public of our finding that the Proposed Action will not significantly affect the quality of the human environment.

Basis for Finding: The environmental impacts of constructing the proposed structural enhancements were considered in the Final EA pursuant to the National Environmental Policy Act (NEPA) and the CEQ regulations implementing NEPA. No significant impacts on the environment would occur with implementation of best management practices and avoidance, minimization, and mitigation measures identified in the Final EA.

The Final EA can be viewed on the GSA website at https://www.gsa.gov/about-us/regions/welcome-to-the-pacific-rim-region-9/land-ports-of-entry/calexico-west-land-port-of-entry.

The Finding of No Significant Impact will be signed thirty (30) days after the publication of this notice, provided that no information leading to a contrary finding is received or comes to light during this period.

Russell Larson,
Director, Portfolio Management Division, Pacific Rim Region, Public Buildings Service.

[FR Doc. 2022-21886 Filed 10-6-22; 8:45 am]

BILLING CODE 6820-YF-P